DEPARTMENT OF TRANSPORTATION

Federal Aviation Administration

14 CFR Part 39

[Docket No. FAA-2015-0625; Directorate Identifier 2015-NE-09-AD; Amendment 39-18253; AD 2015-17-20]

RIN 2120-AA64

Airworthiness Directives; GE Aviation Czech s.r.o. Turboprop Engines

AGENCY: Federal Aviation Administration (FAA), DOT.

ACTION: Final rule.

SUMMARY: We are adopting a new airworthiness directive (AD) for certain serial number (S/N) GE Aviation Czech s.r.o. M601E-11, M601E-11A, and M601F turboprop engines with certain part number (P/N) gas generator turbine (GGT) blades, installed. This AD requires removing from service any affected engine with certain GGT blades installed. This AD was prompted by the determination that certain GGT blades are susceptible to blade failure. We are issuing this AD to prevent GGT blade failure, which could lead to engine failure and loss of the airplane.

DATES: This AD becomes effective October 1, 2015.

ADDRESSES: See the FOR FURTHER INFORMATION CONTACT section.

Examining the AD Docket

You may examine the AD docket on the Internet at http://www.regulations.gov by searching for and locating Docket No. FAA-2015-0625; or in person at the Docket Management Facility between 9 a.m. and 5 p.m., Monday through Friday, except Federal holidays. The AD docket contains this AD, the mandatory continuing airworthiness information (MCAI), the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Robert Green, Aerospace Engineer, Engine Certification Office, FAA, Engine & Propeller Directorate, 12 New England Executive Park, Burlington, MA 01803; phone: 781-238-7754; fax: 781-238-7199; email: robert.green@faa.gov.

SUPPLEMENTARY INFORMATION:

Discussion

We issued a notice of proposed rulemaking (NPRM) to amend 14 CFR part 39 by adding an AD that would apply to the specified products. The NPRM was published in the Federal Register on April 21, 2015 (80 FR 22136). The NPRM proposed to correct an unsafe condition for the specified products. The MCAI states:

It has been demonstrated that non-shot peened Gas Generator Turbine (GGT) blades are susceptible to blade separation in the shank area due to their reduced fatigue life.

This condition, if not corrected, could lead to an in-flight engine shutdown and, consequently, reduced control of the aeroplane.

Comments

We gave the public the opportunity to participate in developing this AD. We received no comments on the NPRM (80 FR 22136, April 21, 2015).

In our review of the NPRM, we found that we had included an S/N from the MCAI that was in error. We corrected the error by removing S/N 961001 from paragraph (c)(2) of this AD.

Conclusion

We reviewed the available data and determined that air safety and the public interest require adopting this AD with the changes described previously. We determined that these changes will not increase the economic burden on any operator or increase the scope of this AD.

Costs of Compliance

We estimate that this AD affects one engine installed on an airplane of U.S. registry. We also estimate that it would take about 64 hours per engine to comply with this AD. The average labor rate is $85 per hour. Required parts cost about $28,765 per engine. Based on these figures, we estimate the cost of this AD on U.S. operators to be $34,205.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska to the extent that it justifies making a regulatory distinction, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-17-20 GE Aviation Czech s.r.o. (Type Certificate previously held by WALTER Engines a.s., Walter a.s., and MOTORLET a.s.): Amendment 39-18253; Docket No. FAA-2015-0625; Directorate Identifier 2015-NE-09-AD.

(a) Effective Date

This AD becomes effective October 1, 2015.

(b) Affected ADs

None.

(c) Applicability

This AD applies to certain serial number (S/N) GE Aviation Czech s.r.o. M601E-11, M601E-11A, and M601F turboprop engine models, with gas generator turbine (GGT) blade, part number (P/N) M601-3372.6 or M601-3372.51, installed, as follows:

(1) Model M601E-11: S/Ns 862001, 863008, 894018, 034005, 034006, 034007, 034008, 041003, and 042002.

(2) Model M601E-11A: S/Ns 042003, 042004, 044001, and 044002.

(3) Model M601F: S/Ns 024001, 002001, 003001, 934001, 934002, 961001.

(d) Reason

This AD was prompted by the determination that certain GGT blades are susceptible to blade failure. These blades are identified as blade P/Ns M601-3372.6 and M601-3372.51, and are installed on an engine S/N identified in paragraph (c) of this AD. We are issuing this AD to prevent GGT blade failure, which could lead to engine failure and loss of the airplane.

(e) Actions and Compliance

Comply with this AD within the compliance times specified, unless already done. After the effective date of this AD:

(1) Do not return to service any affected engine with GGT blade, P/N M601-3372.6 or M601-3372.51, installed, after 300 hours time in service or six months, whichever occurs first, after the effective date of this AD.

(2) If the affected engines are subsequently disassembled or overhauled, the non-shot peened GGT blades, P/N M601-3372.6 or M601-3372.51, are not eligible for installation in any other engine after removal.

(f) Alternative Methods of Compliance (AMOCs)

The Manager, Engine Certification Office, FAA, may approve AMOCs for this AD. Use the procedures found in 14 CFR 39.19 to make your request. You may email your request to: ANE-AD-AMOC@faa.gov.

(g) Related Information

(1) For more information about this AD, contact Robert Green, Aerospace Engineer, Engine Certification Office, FAA, Engine & Propeller Directorate, 12 New England Executive Park, Burlington, MA 01803; phone: 781-238-7754; fax: 781-238-7199; email: robert.green@faa.gov.

(2) Refer to MCAI European Aviation Safety Agency AD 2015-0015, dated January 30, 2015, for more information. You may examine the MCAI in the AD docket on the Internet at http://www.regulations.gov by searching for and locating it in http://www.regulations.gov/#!documentDetail;D=FAA-2015-0625-0002.

(h) Material Incorporated by Reference

None.

Issued in Burlington, Massachusetts, on August 20, 2015.
Colleen M. D'Alessandro,
Directorate Manager, Engine & Propeller Directorate, Aircraft Certification Service.

[FR Doc. 2015-21119 Filed 8-26-15; 8:45 am]

BILLING CODE 4910-13-P